DEPARTMENT OF VETERANS AFFAIRS

Advisory Committee on Homeless Veterans, Notice of Meeting

The Department of Veterans Affairs (VA) gives notice under the Federal Advisory Committee Act, 5 U.S.C., App. 2., that a virtual meeting of the Advisory Committee on Homeless Veterans will be held on November 4, 2021. The meeting session will begin and end at 12:00 p.m. to 4:00 p.m. Eastern Standard Time (EST). The meeting session is open to the public.

The purpose of the Committee is to provide the Secretary of Veterans Affairs with an ongoing assessment of the effectiveness of the policies, organizational structures, and services of VA in assisting Veterans at risk of and experiencing homelessness. The Committee shall assemble and review information related to the needs of homeless Veterans and provide advice on the most appropriate means of assisting this Veteran population. The Committee will make recommendations to the Secretary regarding such activities.

On Thursday, November 4, 2021, the agenda will include briefings from VA and other Federal agency officials regarding services for homelessness among Veterans. The Committee will also discuss topics for its annual report and recommendations to the Secretary of Veterans Affairs.

No time will be allocated at this meeting for receiving oral presentations from the public. Interested parties should provide written comments on issues affecting homeless Veterans for review by the Committee to Leisa Davis, Designated Federal Officer, Veterans Health Administration Homeless Programs Office (11HPO), U.S. Department of Veterans Affairs, 811 Vermont Avenue NW (11HPO), Washington, DC 20420, or via email at Leisa.Davis@va.gov and achv@va.gov.

Members of the public who wish to attend should contact Leisa Davis of the Veterans Health Administration, Homeless Programs Office, at Leisa.Davis@va.gov and achv@va.gov or 202-632-8588 no later than October 29, 2021, providing their name, professional affiliation, email address, and phone number. Attendees who require reasonable accommodations should also state so in their requests. There will also be a call-in number: 1 872-701-0185, access code: 788 391 343.

Dated: October 14, 2021.
Jelessa M. Burney,
Federal Advisory Committee Management Officer.

[FR Doc. 2021-22726 Filed 10-18-21; 8:45 am]

BILLING CODE;P